DEPARTMENT OF THE INTERIOR

National Park Service

[NPS-SERO-CONG-NPS0035319; PPSESEROC3, PPMPSAS1Y.YP0000]

Determination of Eligibility for Consideration as Wilderness Areas, Congaree National Park

AGENCY: National Park Service, Interior.

ACTION: Notice of determination of wilderness eligibility for lands in Congaree National Park.

SUMMARY: Pursuant to the Wilderness Act of 1964 and in accordance with National Park Service (NPS) Management Policies 2006, Section 6.2.1, the NPS has completed a Wilderness Eligibility Assessment to determine if lands added to Congaree National Park since 1988 (Addition Lands) meet the criteria indicating eligibility for preservation as wilderness. Based on this assessment, the NPS has concluded that of the 5,356 acres of Addition Lands assessed, 3,937 acres meet the eligibility criteria in the Wilderness Act of 1964 and NPS Management Policies 2006 (6.2.1 and 6.2.1.1). This notice is being furnished as required by NPS Management Policies 2006, Section 6.2.1.3.

ADDRESSES: Maps and descriptions of the eligible lands are on file at Congaree National Park Headquarters, 100 National Park Road, Hopkins, South Carolina 29061.

FOR FURTHER INFORMATION CONTACT: Requests for further information should be directed to Congaree National Park Superintendent Gregory A. Hauburger by phone at 803-647-3983, via email at greg_hauburger@nps.gov, or by mail at Congaree National Park, 100 National Park Road, Hopkins, South Carolina 29061.

SUPPLEMENTARY INFORMATION: Since 1988, the exterior boundary of Congaree National Park has been expanded three times: once legislatively, and twice administratively via minor boundary modifications. See Public Law 108-108 (November 10, 2003) and notices of minor boundary revisions published at 83 FR 12203 (March 20, 2018) and 86 FR 6364 (January 21, 2021). Congaree National Park staff analyzed all 5,356 acres added to the park since 1988 (the Addition Lands) for wilderness eligibility. Determinations of eligibility were made by applying the wilderness criteria in the Wilderness Act of 1964, as well as the primary eligibility criteria in NPS Management Policies 2006 Section 6.2.1.1 and the additional considerations for determining eligibility found at Section 6.2.1.2. This analysis was completed using the best available data on existing conditions within the Addition Lands. The team that assessed existing conditions was made up of park and regional staff having extensive knowledge of the area. Of the 5,356 acres assessed, 3,937 acres were found to meet the eligibility criteria.

The area found eligible for wilderness designation consists of approximately 1,211 acres in the park lying between the Norfolk Southern rail line on the west and the U.S. Highway 601 right-of-way on the east. An additional 2,715 acres of eligible land extends farther eastward from the U.S. Highway 601 right-of-way to the park boundary on the Wateree River. One small, isolated tract of 10.89 acres (per deed) fronts on the Congaree River west of the Norfolk Southern rail line. The latter tract is bordered on three sides by designated wilderness.

Public notice announcing the park's intention to conduct the eligibility assessment was made by placing a Notice in the Federal Register on January 19, 2016 (81 FR 2902) and, more recently, via the park's website, social media, and direct contact with interested Tribes, groups, and individual citizens.

Charles F. Sams, III,
Director, National Park Service.

[FR Doc. 2023-27202 Filed 12-11-23; 8:45 am]

BILLING CODE 4312-52-P